AGENCY FOR INTERNATIONAL DEVELOPMENT

Notice of Public Information Collections Being Reviewed by the U.S. Agency for International Development; Comments Requested

SUMMARY: U.S. Agency for International Development (USAID) is making efforts to reduce the paperwork burden. USAID invites the general public and other Federal agencies to take this opportunity to comment on the following proposed and/or continuing information collections, as required by the Paperwork Reduction Act for 1995. Comments are requested concerning: (a) Whether the proposed or continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: Submit comments on or before August 30, 2004.

FOR FURTHER INFORMATION CONTACT: Beverly Johnson, Bureau for Management, Office of Administrative Services, Information and Records Division, U.S. Agency for International Development, Room 2.07-106, RRB, Washington, DC 20523, (202) 712-1365 or via e-mail bjohnson@usaid.gov.

SUPPLEMENTARY INFORMATION: OMB No.: OMB 0412-0554.

Form No.: None.

Title: Training Results and Information Network (TraiNet).

Type of Review: Renewal of Information Collection.

Purpose: The purpose of this information collection is to enable the planning and reporting of information on all USAID training activities, including in-country training. Data collected by USAID and/or its partners via TraiNet includes measures of results and performance monitoring, training participant and program identification, and costs and cost-sharing.

Annual Reporting Burden:

Respondents: 374.

Total annual responses: 15, 720.

Total annual hours requested: 2,630 hours.

Dated: June 22, 2004.
Joanne Paskar,
Chief, Information and Records Division, Office of Administrative Services, Bureau for Management.

[FR Doc. 04-14688 Filed 6-28-04; 8:45 am]

BILLING CODE 6116-01-M